DEPARTMENT OF COMMERCE

International Trade Administration

[A-552-847]

Hard Empty Capsules From the Socialist Republic of Vietnam: Final Affirmative Determination of Sales at Less Than Fair Value

AGENCY: Enforcement and Compliance, International Trade Administration, Department of Commerce.

SUMMARY: The U.S. Department of Commerce (Commerce) determines that hard empty capsules (capsules) from the Socialist Republic of Vietnam (Vietnam) are being, or are likely to be, sold in the United States at less than fair value (LTFV) for the period of investigation April 1, 2024, through September 30, 2024.

DATES: Applicable December 29, 2025.

FOR FURTHER INFORMATION CONTACT: Jinny Ahn or Harrison Tanchuck, AD/CVD Operations, Office VI, Enforcement and Compliance, International Trade Administration, U.S. Department of Commerce, 1401 Constitution Avenue NW, Washington, DC 20230; telephone: (202) 482-0339 or (202) 482-7421, respectively.

SUPPLEMENTARY INFORMATION:

Background

On May 29, 2025, Commerce published in the Federal Register its preliminary affirmative determination in the LTFV investigation of capsules from Vietnam, in which it also postponed the final determination until October 14, 2025.¹ On July 23, 2025, Commerce issued a post-preliminary analysis memorandum in which it made certain changes to its differential pricing analysis.² We invited interested parties to comment on the Preliminary Determination and changes to the differential pricing analysis.³

¹ See Hard Empty Capsules from the Socialist Republic of Vietnam: Preliminary Affirmative Determination of Sales at Less Than Fair Value, Postponement of Final Determination, and Extension of Provisional Measures, 90 FR 22708 (May 29, 2025) (Preliminary Determination), and accompanying Preliminary Decision Memorandum (PDM).

² See Memorandum, “Post-Preliminary Analysis in the Less-Than-Fair-Value Investigation of Hard Empty Capsules from the Socialist Republic of Vietnam,” dated July 23, 2025 (Post-Preliminary Analysis).

³ See Memorandum, “Briefing Schedule,” dated August 14, 2025.

Due to the lapse in appropriations and Federal Government shutdown, on November 14, 2025, Commerce tolled all deadlines in administrative proceedings by 47 days.⁴ Additionally, due to a backlog of documents that were electronically filed via Enforcement and Compliance's Antidumping and Countervailing Duty Centralized Electronic Service System (ACCESS) during the Federal Government shutdown, on November 24, 2025, Commerce tolled all deadlines in administrative proceedings by an additional 21 days.⁵ Accordingly, the deadline for this final determination is now December 18, 2025.

⁴ See Memorandum, “Deadlines Affected by the Shutdown of the Federal Government,” dated November 14, 2025.

⁵ See Memorandum, “Tolling of all Case Deadlines,” dated November 24, 2025.

A summary of the events that occurred since the Preliminary Determination, as well as a full discussion of the issues raised by parties for this final determination, may be found in the Issues and Decision Memorandum.⁶ The Issues and Decision Memorandum is a public document and is on file electronically via ACCESS. ACCESS is available to registered users at http://access.trade.gov. In addition, a complete version of the Issues and Decision Memorandum can be accessed directly at https://access.trade.gov/public/FRNoticesListLayout.aspx.

⁶ See Memorandum, “Issues and Decision Memorandum for the Final Affirmative Determination of Sales at Less Than Fair Value in the Investigation of Hard Empty Capsules from the Socialist Republic of Vietnam,” dated concurrently with, and hereby adopted by, this notice (Issues and Decision Memorandum).

Scope of the Investigation

The products covered by this investigation are capsules from Vietnam. For a complete description of the scope of this investigation, see Appendix I.

Scope Comments

In the Preliminary Scope Memorandum, we set aside a period of time for parties to raise issues regarding product coverage (i.e., scope) in scope-specific case briefs or other written comments.⁷ We received scope case and rebuttal briefs from multiple interested parties. For a summary of the product coverage comments and rebuttal response submitted to the record for this final determination, and accompanying discussion and analysis of all comments timely received, see the Final Scope Memorandum.⁸ In the Final Scope Memorandum, Commerce determined that it is modifying the scope language as it appeared in the Initiation Notice.⁹ See Appendix I.

⁷ See Memorandum, “Less-Than-Fair-Value and Countervailing Duty Investigations of Hard Empty Capsules from Brazil, the People's Republic of China, India, and the Socialist Republic of Vietnam: Scope Comments Decision Memorandum for the Preliminary Determination,” dated March 24, 2025 (Preliminary Scope Memorandum).

⁸ See Memorandum, “Less-Than-Fair-Value Investigations of Hard Empty Capsules from Brazil, the People's Republic of China, India, and the Socialist Republic of Vietnam and Countervailing Duty Investigations from Brazil, the People's Republic of China, India, and the Socialist Republic of Vietnam: Final Scope Decision Memorandum,” dated concurrently with this notice (Final Scope Memorandum).

⁹ See Hard Empty Capsules From Brazil, the People's Republic of China, India, and the Socialist Republic of Vietnam: Initiation of Less-Than-Fair-Value Investigations, 89 FR 91684 (November 20, 2024) (Initiation Notice).

Verification

Commerce conducted verification of the information relied upon in making its final determination in this investigation, in accordance with section 782(i) of the Tariff Act of 1930, as amended (the Act). Specifically, we conducted on-site verifications of sales and cost information submitted by Suheung Vietnam Co., Ltd. (SHVN) for use in our final determination. We used standard verification procedures, including an examination of relevant sales and accounting records, and original source documents provided by SHVN.

Analysis of Comments Received

All issues raised in the case and rebuttal briefs submitted by interested parties in this investigation are addressed in the Issues and Decision Memorandum. A list of the issues addressed in the Issues and Decision Memorandum is attached to this notice as Appendix II.

Changes Since the Preliminary Determination

We made certain changes to the margin calculation for SHVN since the Preliminary Determination and Post-Preliminary Analysis. For a discussion of these changes, see the Issues and Decision Memorandum.

Use of Adverse Facts Available

Commerce finds that, pursuant to sections 776(a)(2)(B) and (C) of the Act, the use of partial adverse facts available is warranted in determining the dumping rate for SHVN. For further discussion, see the Issues and Decision Memorandum.

Separate Rate Company and the Vietnam-Wide Entity

We preliminarily granted a separate rate to SHVN, the sole company that submitted a separate rate application in this investigation.¹⁰ We received no comments from interested parties on Commerce's preliminary separate rate determination for SHVN. Accordingly, we continue to find that SHVN is eligible for a separate rate. Additionally, because we preliminarily did not find that the Vietnam-wide entity failed to cooperate in this investigation, we preliminarily assigned the estimated weighted-average dumping margins calculated for SHVN as the estimated weighted-average dumping margin for the Vietnam-wide entity. No party commented on our preliminary separate rate determination or our finding with respect to the Vietnam-wide entity. Therefore, we continue to find that SHVN is eligible for a separate rate. We also continue to assign the estimated weighted-average dumping margins calculated for SHVN to the Vietnam-wide entity.

¹⁰ See Preliminary Determination, 90 FR at 22708.

Combination Rates

Consistent with the Preliminary Determination and Policy Bulletin 05.1,¹¹ Commerce calculated combination rates for the company eligible for a separate rate.

¹¹ See Enforcement and Compliance's Policy Bulletin No. 05.1, regarding, “Separate-Rates Practice and Application of Combination Rates in Antidumping Investigations involving Non-Market Economy Countries,” dated April 5, 2005 (Policy Bulletin 05.1), available on Commerce's website at http://enforcement.trade.gov/policy/bull05-1.pdf.

Final Determination

Commerce determines that the following estimated weighted-average dumping margins exist:

Producer | Exporter | Weighted-average dumping margin (percent) | Cash deposit rate (adjusted for export subsidy offset) (percent)) ¹²
Suheung Vietnam Co., Ltd | Suheung Vietnam Co., Ltd | 47.12 | 46.24
Vietnam-Wide Entity | 47.12 | 46.24

Disclosure

Commerce intends to disclose the calculations performed in connection with this final determination to interested parties within five days after public announcement or, if there is no public announcement, within five days of the date of publication of this notice in the Federal Register, in accordance with 19 CFR 351.224(b).

¹² We are applying an export subsidy offset to the mandatory respondent. See unpublished Federal Register notice entitled, “Hard Empty Capsules from the Socialist Republic of Vietnam: Final Affirmative Countervailing Duty Determination,” dated concurrently with this notice (CVD Final Determination). For the Vietnam-wide entity, we continue to calculate the adjusted cash deposit rate by deducting the export subsidy rate calculated for SHVN in the companion CVD Final Determination.

Suspension of Liquidation

In accordance with section 733(d)(2) of the Act, we instructed U.S. Customs and Border Protection (CBP) to suspend liquidation of all entries of subject merchandise, as described in Appendix I of this notice, which are entered, or withdrawn from warehouse, for consumption on or after May 29, 2025, the date of publication of the Preliminary Determination in the Federal Register. In accordance with section 733(d) of the Act, we instructed CBP to discontinue the suspension of liquidation of all entries of subject merchandise entered or withdrawn from warehouse, on or after November 25, 2025, but to continue the suspension of liquidation of all entries of subject merchandise on or before November 24, 2025.

If the U.S. International Trade Commission (ITC) issues a final affirmative injury determination, we will issue an antidumping duty order, reinstate the suspension of liquidation under section 736(a) of the Act, and require a cash deposit of estimated antidumping duties for such entries of subject merchandise in the amounts indicated above, in accordance with section 736(a) of the Act, as follows: (1) the cash deposit rate for the exporter/producer combinations listed in the table above will be the rate identified in the table; (2) for all combinations of Vietnamese exporters/producers of subject merchandise that have not received their own separate rate above, the cash deposit rate will be the cash deposit rate established for the Vietnam-wide entity; and (3) for all non-Vietnamese exporters of subject merchandise that have not received their own separate rate above, the cash deposit rate will be the cash deposit rate applicable to the Vietnamese exporter/producer combination that supplied that non-Vietnamese exporter.

If the ITC determines that material injury, or threat of material injury, does not exist, this proceeding will be terminated, and all estimated duties deposited or securities posted as a result of the suspension of liquidation will be refunded or canceled.

To determine the cash deposit rate, Commerce normally adjusts the estimated weighted-average dumping margin by the amount of export subsidies countervailed in a companion countervailing duty (CVD) investigation, when CVD provisional measures are in effect. Accordingly, where Commerce made an affirmative determination for countervailable export subsidies, Commerce would offset the estimated weighted-average dumping margins by the appropriate export subsidy rate.¹³ Any such adjusted cash deposit rates may be found in the “Final Determination” section above. If the U.S. International Trade Commission (ITC) makes a final affirmative determination of injury due to both dumping and subsidies, then the cash deposit rate will include the offsets for the export subsidies collected as part of the CVD final determination.

¹³ See Preliminary Determination PDM at 24-26.

ITC Notification

In accordance with section 735(d) of the Act, Commerce will notify the ITC of its final affirmative determination of sales at LTFV. Because Commerce's final determination is affirmative, in accordance with section 735(b)(2) of the Act, the ITC will make its final determination as to whether the domestic industry in the United States is materially injured, or threatened with material injury, by reason of imports, or sales (or the likelihood of sales) for importation, of capsules no later than 45 days after this final determination. If the ITC determines that material injury or threat of material injury does not exist, this proceeding will be terminated, all cash deposits will be refunded or canceled, and suspension of liquidation will be lifted. If the ITC determines that such injury does exist, Commerce will issue an antidumping duty order directing CBP to assess, upon further instructions by Commerce, antidumping duties on all imports of the subject merchandise that are entered, or withdrawn from warehouse, for consumption on or after the effective date of the suspension of liquidation, as discussed above in the “Suspension of Liquidation” section.

Administrative Protective Order (APO)

This notice also serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This final determination is issued and published in accordance with sections 735(d) and 777(i) of the Act, and 19 CFR 351.210(c).

Dated: December 18, 2025.
Christopher Abbott,
Deputy Assistant Secretary for Policy and Negotiations, performing the non-exclusive functions and duties of the Assistant Secretary for Enforcement and Compliance.

Appendix I

Scope of the Investigation

The merchandise subject to the scope of this investigation is hard empty capsules, which are comprised of two prefabricated, hollowed cylindrical sections (cap and body). The cap and body pieces each have one closed and rounded end and one open end, and are constructed with different or equal diameters at their open ends.

Hard empty capsules are unfilled cylindrical shells composed of at least 80 percent by weight of a water soluble polymer that is considered non-toxic and appropriate for human or animal consumption by the United States Pharmacopeia—National Formulary (USP-NF), Food Chemical Codex (FCC), or equivalent standards. The most common polymer materials in hard empty capsules are gelatin derived from animal collagen (including, but not limited to, pig, cow, or fish collagen), hydroxypropyl methylcellulose (HPMC), and pullulan.

Hard empty capsules may also contain water and additives, such as opacifiers, colorants, processing aids, controlled release agents, plasticizers, and preservatives. Hard empty capsules may also be imprinted or otherwise decorated with markings.

Hard empty capsules are covered by the scope of this investigation regardless of polymer material, additives, transparency, opacity, color, imprinting, or other markings.

Hard empty capsules are also covered by the scope of this investigation regardless of their size, weight, length, diameter, thickness, and filling capacity.

Cap and body pieces of hard empty capsules are covered by the scope of this investigation regardless of whether they are imported together or separately, and regardless of whether they are imported in attached or detached form.

Hard empty capsules covered by the scope of this investigation are those that disintegrate in water, simulated intestinal fluid, simulated gastric fluid, or other similar water-based (i.e., aqueous) fluids within 2 hours under tests specified in Chapter 701 of the USP-NF, or equivalent disintegration tests.

Hard empty capsules are classifiable under subheadings 9602.00.1040 and 9602.00.5010 of the Harmonized Tariff Schedule of the United States (HTSUS). In addition, hard empty capsules may be imported under HTSUS subheading 1905.90.9090; gelatin hard empty capsules may be imported under HTSUS subheading 3503.00.5510; HPMC hard empty capsules may be imported under HTSUS subheading 3923.90.0080; and pullulan hard empty capsules may be imported under HTSUS subheading 2106.90.9998. Although the HTSUS subheadings are provided for convenience and customs purposes, the written description of the merchandise covered by this investigation is dispositive.

Appendix II

List of Topics Discussed in the Issues and Decision Memorandum

I. Summary

II. Background

III. Adjustment to Cash Deposit Rate for Export Subsidies

IV. Changes Since the Preliminary Determination

V. Application of Facts Available and Use of Adverse Inference

VI. Discussion of the Issues

Comment 1: Total Adverse Facts Available (AFA)

Comment 2: Selection of the Primary Surrogate Country

Comment 3: Unreported Packing Inputs

Comment 4: Calculation of Surrogate Financial Ratios

Comment 5: Unreported Supplier Distances

VII. Recommendation

[FR Doc. 2025-23828 Filed 12-23-25; 8:45 am]

BILLING CODE 3510-DS-P